DEPARTMENT OF TRANSPORTATION

Coast Guard

[USCG 2002-12690]

Information Collection Under Review by the Office of Management and Budget: (OMB): 2115-0139, 2115-0035, 2115-0598, 2115-0556, and 2115-0111

AGENCY: Coast Guard, DOT.

ACTION: Request for comments.

SUMMARY: In compliance with the Paperwork Reduction Act of 1995, this request for comments announces that the Coast Guard has forwarded the five Information Collection Reports (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before November 27, 2002.

ADDRESSES: To make sure that your comments and related material do not enter the docket [USCG 2002-12690] more than once, please submit them by only one of the following means:

(1)(a) By mail to the Docket Management Facility, U.S. Department of Transportation, room PL-401, 400 Seventh Street SW., Washington, DC 20590-0001. (b) By mail to OIRA, 725 17th Street NW., Washington, DC 20503, to the attention of the Desk Officer for the Coast Guard. Caution: Because of recent delays in the delivery of mail, your comments may reach the Facility more quickly if you choose one of the other means described below.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Docket Management Facility at (202) 493-2251 and (b) OIRA at 202-395-5806, or e-mail to OIRA at oira_docket@omb.eop.gov attention: Desk Officer for the Coast Guard.

(4)(a) Electronically through the Web Site for the Docket Management System at http://dms.dot.gov. (b) OIRA does not have a website on which you can post your comments.

The Docket Management Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICRs are available for inspection and copying in public dockets. They are available in docket USCG 2002-12690 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, (202) 267-2326, for questions on this document; Dorothy Beard, Chief, Documentary Services Division, U.S. Department of Transportation, (202) 366-5149, for questions on the docket.

SUPPLEMENTARY INFORMATION:

Regulatory History

This request constitutes the 30-day notice required by OIRA. The Coast Guard has already published [67 FR 49734 (July 31, 2002)] the 60-day notice required by OIRA. That notice elicited no comments.

Request for Comments

The Coast Guard invites comments on the proposed collection of information to determine whether the collection is necessary for the proper performance of the functions of the Department. In particular, the Coast Guard would appreciate comments addressing: (1) the practical utility of the collection; (2) the accuracy of the Department's estimated burden of the collection; (3) ways to enhance the quality, utility, and clarity of the information that is the subject of the collection; and (4) ways to minimize the burden of collection on respondents, including the use of automated collection techniques or other forms of information technology.

Comments, to DMS or OIRA, must contain the OMB Control Number of the ICR addressed. Comments to DMS must contain the docket number of this request, USCG 2002-12690. Comments to OIRA are best assured of having their full effect if OIRA receives them 30 or fewer days after the publication of this request.

Information Collection Request

1. Title: Ships' Stores Certification for Hazardous Materials Aboard Ships.

OMB Control Number: 2115-0139.

Type of Request: Extension of a currently approved collection.

Affected Public: Suppliers and manufacturers of hazardous products used on ships.

Form: This collection of information does not require the public to fill out forms, but does require the information to be in written format to the Coast Guard.

Abstract: The information is needed to ensure that personnel aboard ships become aware of the proper usage and stowage for certain hazardous materials.

Annual Estimated Burden Hours: The estimated burden is 6 hours a year.

2. Title: Report of Defect or Noncompliance and Report of Campaign Update.

OMB Control Number: 2115-0035.

Type of Request: Extension of a currently approved collection.

Affected Public: Manufacturers of recreational boats, inboard engines, outboard motors, and sterndrive units.

Forms: CG-4917 and CG-4918.

Abstract: The information in this report is needed to ensure manufacturers' compliance with requirements for notifying consumers of defects in recreational boats, inboard engines, outboard motors, and sterndrive units.

Annual Estimated Burden Hours: The estimated burden is 328 hours a year.

3. Title: Ballast Water Management for Vessels with Ballast Tanks Entering U.S. Waters.

OMB Control Number: 2115-0598.

Type of Request: Extension of a currently approved collection.

Affected Public: Owners and operators of certain vessels.

Forms: CG-5662.

Abstract: The information is needed to carry out the reporting requirements of 16 U.S.C. 4711 regarding the management of ballast water, to prevent the introduction and spread of aquatic-nuisance species into U.S. waters.

Annual Estimated Burden Hours: The estimated burden is 33,500 hours a year.

4. Title: (a) Reports of MARPOL 73/78 Oil, Noxious Liquid Substances (NLS) and Garbage Discharge; (b) Application for Equivalents, Exemptions, and Alternatives; and (c) Voluntary Reports of Pollution Sightings.

OMB Control Number: 2115-0556.

Type of Request: Extension of a currently approved collection.

Affected Public: Owners and operators of vessels for (a) and (b), and the public for (c).

Forms: This collection of information does not require the public to fill out forms, but does require the information to be in written or electronic format.

Abstract: The information is needed by the Coast Guard to ensure compliance with pollution-prevention standards and to respond to and investigate pollution incidents.

Annual Estimated Burden Hours: The estimated burden is 10 hours a year.

5. Title: Course Approval for Merchant Marine Training Schools.

OMB Control Number: 2115-0111.

Type of Request: Extension of a currently approved collection.

Affected Public: Merchant marine training schools.

Forms: This collection of information does not require the public to fill out forms, but does require the information submitted to be in written or electronic format.

Abstract: The information is needed to ensure that merchant marine training schools meet minimal statutory requirements. The information is used to approve the curricula, facilities, and faculties for these schools.

Annual Estimated Burden Hours: The estimated burden is 16,988 hours a year.

Dated: October 23, 2002.
C. I. Pearson,
Director of Information and Technology.

[FR Doc. 02-27371 Filed 10-25-02; 8:45 am]

BILLING CODE 4910-15-P